DEPARTMENT OF THE INTERIOR

Fish and Wildlife Service

[Docket No. FWS-HQ-IA-2016-0064; FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibit activities with listed species unless Federal authorization is acquired that allows such activities.

DATES: We must receive comments or requests for documents on or before May 23, 2016.

ADDRESSES: Submitting Comments: You may submit comments by one of the following methods:

• Federal eRulemaking Portal: http://www.regulations.gov. Follow the instructions for submitting comments on Docket No. FWS-HQ-IA-2016-0064.

• U.S. mail or hand-delivery: Public Comments Processing, Attn: Docket No. FWS-HQ-IA-2016-0064; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information). Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Endangered Species

Applicant: University of Minnesota, Minneapolis, MN; PRT-84795B

The applicant requests a permit to import biological samples from salvaged specimens of chimpanzee (Pan troglodytes) for the purpose of scientific research.

Applicant: Auburn University, Auburn, AL; PRT-81432B

The applicant requests a permit to import biological samples from captive-held Asian elephants (Elephas maximus) from Canada for the purpose of scientific research.

Applicant: Milwaukee County Zoological Gardens, Milwaukee, WI; PRT-85795B

The applicant requests a permit to import one female captive-bred snow leopard (Uncia uncia) for the purpose of enhancement of the survival of the species. This notification covers activities to be conducted by the applicant over a 1-year period.

Applicant: New York University, New York, NY; PRT-80238B

The applicant requests a permit to import biological samples from captive-bred and captive held mangabey (Cercocebus torquatus) and red-eared guenon (Cercopithecus erythrotis) for the purpose of scientific research. This notification covers activities to be conducted by the applicant over a 1-year period.

Applicant: University of Florida, Florida Museum of Natural History, Gainesville, FL; PRT-677336

The applicant requests a permit to export and re-import non-living museum specimens of endangered and threatened species of plants and animals previously accessioned in the applicant's collection for scientific research. This notification covers activities to be conducted by the applicant over a 5-year period.

Applicant: Wildlife Conservation Society, New York, NY; PRT-231585

The applicant requests renewal of their permit to export captive-bred/captive-hatched Kihansi spray toads (Nectophrynoides asperginis) to the Government of the United Republic of Tanzania—C/O the University of Dar es Salaam, Dar es Salaam, Tanzania, for the purpose of enhancement of the species through reintroduction into the wild. This notification covers activities to be conducted by the applicant over a 5-year period.

Applicant: Sunset Zoological park, Manhattan, KS; PRT-679476

The applicant requests a renewal of his captive-bred wildlife registration under 50 CFR 17.21(g) for the following species to enhance species propagation or survival: Cheetah (Acinonyx jubatus), maned wolf (Chrysocyon brachyurus), red-crowned crane (Grus japonensis), lar gibbon (Hylobates lar), Edward's pheasant (Lophura edwardsi), Parma wallaby (Macropus parma), Amur leopard (Panthera pardus orientalis), Malayan tiger (Panthera tigris jacksoni), Puerto Rican crested toads (Peltophryne lemur), and common chimpanzee (Pan troglodytes). This notification covers activities to be conducted by the applicant over a 5-year period.

Applicant: West Coast Game Park, Bandon, OR; PRT-667821

The applicant requests an amendment and renewal of his captive-bred wildlife registration under 50 CFR 17.21(g) for the following species to enhance species propagation or survival: African lion (Panthera leo), Leopard (Panthera pardus), snow leopards (Uncia uncia), and chimpanzees (Pan troglodytes). This notification covers activities to be conducted by the applicant over a 5-year period.

Applicant: White Oak Conservation Holdings, LLC, Yulee, FL; PRT-03134B

The applicant requests an amendment to his captive-bred wildlife registration under 50 CFR 17.21(g) for the following species to enhance species propagation or survival: Blue-billed curassow (Crax alberti), white rhinoceros (Ceratotherium simum), and Andean Condor (Vultur gryphus). This notification covers activities to be conducted by the applicant over a 5-year period.

Applicant: Andy Nguyen, Huntington Beach, CA; PRT-79469A

The applicant requests an amendment to his captive-bred wildlife registration under 50 CFR 17.21(g) to add Galapagos tortoise (Chelonoidis nigra) to enhance the species propagation or survival. This notification covers activities to be conducted by the applicant over a 5-year period.

Brenda Tapia,
Program Analyst/Data Administrator, Branch of Permits, Division of Management Authority.

[FR Doc. 2016-09357 Filed 4-21-16; 8:45 am]

BILLING CODE 4333-15-P